DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency has submitted the following proposed information collection to the Office of Management and Budget for review and clearance in accordance with the requirements of the Paperwork Reduction Act of 1995 (44 U.S.C. 3507). This submission adds complete details on a mail survey to be administered in the Newport, IN site.

Title: Chemical Stockpile Emergency Preparedness Program (CSEPP) Evaluation and Customer Satisfaction Survey.

Type of Information Collection: Revision of a currently approved collection.

OMB Number: OMB 1660-0057.

Abstract: Consistent with performance measurement requirements set forth by the Government Performance Results Act, the Chemical Stockpile Preparedness Program (CSEPP) will continue collecting data from state, local and tribal governments, individuals, and businesses residing in immediate or surrounding areas of eight chemical stockpile sites. The study will: assess outreach program effectiveness, measure/monitor customer satisfaction, and identify weaknesses and strengths of individual sites.

Affected Public: Individuals (residents), Businesses, State, local, and Tribal Governments.

Number of Respondents: 7,757 residents, businesses and government officials.

Estimated Time per Respondent: 15 minutes.

Estimated Total Annual Burden Hours: 1,910.

Frequency of Response: Once annually.

Comments: Interested persons are invited to submit written comments on the proposed information collection to: Desk Officer for the Federal Emergency Management Agency, Emergency Preparedness & Response Directorate, U.S. Department of Homeland Security, facsimile number (202) 395-7285 within 30 days of the date of this notice.

FOR FURTHER INFORMATION CONTACT: Requests for additional information or copies of the information collection should be made to the Chief, Records Management Section, Information Resources Management Branch, Information Technology Services Division, Federal Emergency Management Agency, Emergency Preparedness and Response Directorate, Department of Homeland Security 500 C Street, SW., Room 316, Washington, DC 20472. Facsimile number (202) 646-3347, or e-mail address FEMA-Information-Collections@dhs.gov.

Dated: September 21, 2005.
Darcy Bingham,
Division Director, Information Resources Management Division, Information Technology Services Directorate.

[FR Doc. 05-19639 Filed 9-29-05; 8:45 am]

BILLING CODE 9110-13-P